DEPARTMENT OF THE TREASURY

Guidance to Federal Financial Assistance Recipients on the Title VI Prohibition Against National Origin Discrimination Affecting Limited English Proficient Persons

Correction

In notice document 01-5412 beginning on page 13829 in the issue of Wednesday, March 7, 2001, make the following correction:

On page 13829, in the third column under the heading DATES , in the third line, “May 7, 3001 ” should read, “May 7, 2001 ”.

[FR Doc. C1-5412 Filed 3-9-01; 8:45 am]

BILLING CODE 1505-01-D

DEPARTMENT OF THE TREASURY

Internal Revenue Service

26 CFR Part 1

[REG-116050-99]

RIN 1545-AX65

Stock Transfer Rules: Carryover of Earnings and Taxes

Correction

In proposed rule document 00-28950 beginning on page 69138 in the issue of Wednesday, November 15, 2000, make the following corrections:

§1.367(b)-7 [Corrected]

1. On page 69158, in §1.367(b)-7(e)(2)(iv), Example 2-(i) Facts., in the first table, in the column titled “E&P”, “(200u)” should read “200u”.

§1.367(b)-8 [Corrected]

2. On page 69178, in §1.367(b)-8(e)(6), Example 2(ii)(B) Application of §1.367(b)-5(c)., in the third column, in the 23rd line, remove “(along with $50 of foreign income taxes) and 166.7u (200u-(100u × (200u ÷ 600u))) of available earnings in the section 904(d)(1)(D) shipping separate category”.

[FR Doc. C0-28950 Filed 3-9-01; 8:45 am]

BILLING CODE 1505-01-D